DEPARTMENT OF EDUCATION

[CFDA Nos. 84.381A]

Teachers for a Competitive Tomorrow: Programs for Baccalaureate Degrees in Science, Technology, Engineering, Mathematics, or Critical Foreign Languages, with Concurrent Teacher Certification

ACTION: Correction; notice correcting the dates.

SUMMARY: We correct the Applications Available and Deadline for Transmittal of Applications dates in the notice published on June 4, 2008 (73 FR 31835-31840).

SUPPLEMENTARY INFORMATION: On June 4, 2008, we published a notice in the Federal Register (73 FR 31835) inviting applications for new awards for fiscal year (FY) 2008 for the Teachers for a Competitive Tomorrow: Programs for Baccalaureate Degrees in Science, Technology, Engineering, Mathematics, or Critical Foreign Languages, with Concurrent Teacher Certification. The Deadline for Transmittal of Applications date (as published on pages 31835 and 31837) is corrected to July 8, 2008 and the Deadline for Intergovernmental Review date (as published on pages 31835 and 31837) is corrected to September 8, 2008.

FOR FURTHER INFORMATION CONTACT: Brenda Shade, U.S. Department of Education, 1990 K Street, NW., room 7090, Washington, DC 20006-8526. Telephone: (202) 502-7773 or by e-mail: Brenda.Shade@ed.gov.

If you use a TDD, call the FRS, toll-free, at 1-800-877-8339.

Individuals with disabilities can obtain this document in an alternative format (e.g., Braille, large print, audiotape, or computer diskette) on request to the program contact person listed under FOR FURTHER INFORMATION CONTACT.

Electronic Access to This Document: You can view this document, as well as all other documents of this Department published in the Federal Register, in text or Adobe Portable Document Format (PDF), on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 13, 2008.
Sara Martinez Tucker,
Under Secretary of Education.

[FR Doc. 08-1366 Filed 6-13-08; 3:36 pm]

BILLING CODE 4000-01-P